DEPARTMENT OF AGRICULTURE

Food and Nutrition Service

Agency Information Collection Activities: Proposed Collection; Comment Request—School Breakfast Program

AGENCY: Food and Nutrition Service (FNS), Department of Agriculture (USDA).

ACTION: Notice.

SUMMARY: In accordance with the Paperwork Reduction Act of 1995, this notice invites the general public and other public agencies to comment on this information collection. This is a revision of a currently approved collection, which FNS employs to determine public participation in the School Breakfast Program.

DATES: Written comments must be received on or before April 26, 2022.

ADDRESSES: Comments may be sent to: Jeffrey Warner, School Meals Branch, Policy and Program Development Division, Child Nutrition Programs, Food and Nutrition Service, U.S. Department of Agriculture, 1320 Braddock Place, Alexandria, VA 22314. Comments may also be submitted via email to the attention of Jeffrey Warner at jeffrey.warner@usda.gov. Comments will also be accepted through the Federal eRulemaking Portal. Go to https://www.regulations.gov and follow the online instructions for submitting comments electronically. All responses to this notice will be summarized and included in the request for Office of Management and Budget (OMB) approval. All comments will be a matter of public record.

FOR FURTHER INFORMATION CONTACT: Requests for additional information or copies of this information collection should be directed to Jeffrey Warner, School Programs Branch, Policy and Program Development Division, Child Nutrition Programs, Food and Nutrition Service, U.S. Department of Agriculture, at 703-605-4372 or at jeffrey.warner@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 7 CFR part 220, School Breakfast Program.

Form Number: N/A.

OMB Number: 0584-0012.

Expiration Date: April 30, 2022.

Type of Request: Revision of a currently approved collection.

Abstract: Section 4 of the Child Nutrition Act of 1966 (CNA) (42 U.S.C. 1773) authorizes the School Breakfast Program (SBP) as a nutrition assistance program in schools, and requires that “Breakfasts served by schools participating in the SBP under this section shall consist of a combination of foods and shall meet minimum nutritional requirements prescribed by the Secretary on the basis of tested nutritional research.” This information collection is required to administer and operate this program in accordance with the Richard B. Russell National School Lunch Act (NSLA). The Program is administered at the State and school food authority (SFA) levels, and operations include the submission of applications and agreements, submission of claims for reimbursements, and maintenance of records. The reporting and recordkeeping burden associated with this revision is summarized in the charts below. The total estimated number of burden hours associated with SBP requirements has decreased by 121,094 annual burden hours due to the use of updated participation data from fiscal year 2020. This collection has reporting forms associated with it, such as the “Report of School Program Operations” form (FNS-10), that are approved and included in the information collection titled “Food Programs Reporting System (FPRS)” (OMB #: 0584-0594, expiration date July 31, 2023). The FPRS information collection accounts for the reporting burden associated with such forms, while this collection covers the burden associated with the maintenance of FNS forms, or regulatory record keeping requirements. All of the reporting and recordkeeping requirements associated with the SBP and included in this collection are currently approved by the Office of Management and Budget and are in force. This is a revision of the currently approved information collection.

Affected Public: State, Local and Tribal Government: Respondent groups identified include (1) State agencies; (2) School Food Authorities; (3) schools.

Estimated Number of Respondents: The total estimated number of respondents is 105,700 (56 State agencies; 17,117 SFAs, and 88,527 schools).

Estimated Number of Responses per Respondent: 313.

Estimated Total Annual Responses: 33,102,536,

Estimated Time per Response: .113 hours.

Number of Reporting Respondents: 105,700.

Number of Responses per Respondent (Reporting): 10.

Total Annual Reporting Responses: 1,058,846.

Reporting Time per Response (Reporting): 0.20 hours.

Total Estimated Annual Reporting Burden: 216,296 hours.

Number of Record Keepers: 105,700.

Number of Records per Record Keeper: 303.

Estimated Total Number of Records/Responses to Keep: 32,043,690.

Recordkeeping Time per Response: .11 hours.

Total Estimated Annual Recordkeeping Burden: 3,520,380.

Annual Recordkeeping and Reporting Burden: 3,736,676.

Current OMB Inventory for Part 220: 3,857,770.

Difference (change in burden with this renewal): −121,094.

See the table below for estimated total annual burden for each type of respondent.

Respondent | Estimated number of respondents | Estimated number of responses per respondent | Total annual responses | Estimated total hours per response | Estimated total burden hours
Reporting
State Agencies | 56 | 36.34 | 2,035 | .28 | 561
School Food Authorities | 17,117 | 10.02 | 171,541 | 1.00 | 171,472
Schools | 88,527 | 10.00 | 885,270 | .05 | 44,264
Total Estimated Reporting Burden | 105,700 | 10.02 | 1,058,846 | .20 | 216,296
Recordkeeping
State Agencies | 56 | 50 | 2,800 | .18 | 503
School Food Authorities | 17,117 | 10 | 171,170 | .08 | 14,207
Schools | 88,527 | 360 | 31,869,720 | .11 | 3,505,669
Total Estimated Recordkeeping Burden | 105,700 | 303.16 | 32,043,690 | .11 | 3,520,380
Total of Reporting and Recordkeeping
Reporting | 105,700 | 10.02 | 1,058,846 | .20 | 216,296
Recordkeeping | 105,700 | 303.16 | 32,043,690 | .11 | 3,520,380
Total | 105,700 | 313.17 | 33,102,536 | .11 | 3,736,676

Cynthia Long,
Administrator, Food and Nutrition Service.

[FR Doc. 2022-04143 Filed 2-24-22; 8:45 am]

BILLING CODE 3410-30-P